DEPARTMENT OF THE INTERIOR

Bureau of Land Management

[LLORW00000.L16100000.DF0000.17XL1109AF.HAG17-0157]

Notice of Public Meeting for the Eastern Washington Resource Advisory Council

AGENCY: Bureau of Land Management, Interior.

ACTION: Notice of public meeting.

SUMMARY: In accordance with the Federal Land Policy and Management Act of 1976 and the Federal Advisory Committee Act of 1972, the U.S. Department of the Interior, Bureau of Land Management (BLM), Eastern Washington Resource Advisory Council (EWRAC) will meet as indicated below.

DATES: The EWRAC will hold a public meeting on Thursday, October 26, 2017, in Spokane Valley, Washington. The meeting will run from 9:30 a.m. to 3:30 p.m. Pacific Daylight Time, with a 60 minute public comment period at 12:00 p.m.

ADDRESSES: The meeting will be held at the BLM Spokane District Office, 1103 North Fancher, Spokane Valley, WA 99212.

FOR FURTHER INFORMATION CONTACT: Jeff Clark, Spokane District Public Affairs Officer, 1103 North Fancher, Spokane Valley, WA 99212, 509-536-1297, jeffclark@blm.gov. Persons who use a telecommunications device for the deaf (TDD) may call the Federal Relay Service at 1 (800) 877-8339 to contact the above individual during normal business hours. This FRS is available 24 hours a day, 7 days a week, to leave a message or question with the above individual. You will receive a reply during normal business hours.

SUPPLEMENTARY INFORMATION: The 15-member EWRAC was chartered to provide information and advice regarding the use and development of the lands administered by the Spokane District in central and eastern Washington. Members represent an array of stakeholder interests in the land and resources from within the local area and statewide. All advisory council meetings are open to the public. At noon members of the public will have the opportunity to make comments to the EWRAC during a one hour public comment period. Persons wishing to make comments during the public comment period should register in person with the BLM by 11 a.m. on the meeting day, at the meeting location. Depending on the number of persons wishing to comment, the length of comments may be limited. The public may send written comments to the EWRAC at BLM Spokane District, Attn. EWRAC, 1103 North Fancher, Spokane Valley, WA 99212.

Before including your address, phone number, email address, or other personal identifying information in your comments, please be aware that your entire comment—including your personal identifying information—may be made publicly available at any time. While you can ask us in your comment to withhold your personal identifying information from public review, we cannot guarantee that we will be able to do so.

Authority: 43 CFR 1784.4-2.

Linda Clark,
Spokane District Manager.

[FR Doc. 2017-20194 Filed 9-20-17; 8:45 am]

BILLING CODE 4310-33-P